FEDERAL MARITIME COMMISSION

Ocean Transportation Intermediary License Revocations

The Commission gives notice that the following Ocean Transportation Intermediary licenses have been revoked pursuant to section 40901 of the Shipping Act of 1984 (46 U.S.C. 40101) effective on the date shown.

License No.: 8893N.

Name: Sunway Line, Inc.

Address: 6925 Aragon Circle, Unit #6, Buena Park, CA 96020.

Date Revoked: August 16, 2012.

Reason: Voluntary surrender of license.

License No.: 18205NF.

Name: JAK Holding Inc. dba Speedier Logistics.

Address: 63 Bay 38th Street, Brooklyn, NY 11214.

Date Revoked: September 17, 2012.

Reason: Voluntary surrender of license.

License No.: 020858F.

Name: Global Shipping Company, LLC dba GSC.

Address: 1009 Sargent Street, Cincinnati, OH 45203.

Date Revoked: August 27, 2012.

Reason: Voluntary surrender of license.

License No.: 022225NF.

Name: Trans Ocean Logistics Forwarding L.L.C.

Address: 1320 West Blancke Street, Linden, NJ 07036.

Date Revoked: August 17, 2012.

Reason: Voluntary surrender of license.

Vern W. Hill,
Director, Bureau of Certification and Licensing.

[FR Doc. 2012-23174 Filed 9-19-12; 8:45 am]

BILLING CODE 6730-01-P